DEPARTMENT OF HEALTH AND HUMAN SERVICES

Centers for Disease Control and Prevention

Disease, Disability, and Injury Prevention and Control Special Emphasis Panel: Occupational Safety and Health Research Member Conflict Review, Program Announcement Number (PA) 04-038

In accordance with section 10(a)(2) of the Federal Advisory Committee Act (Pub. L. 92-463), the Centers for Disease Control and Prevention (CDC) announces the following Meeting of the aforementioned committee:

Time and Date: 1 p.m.-4 p.m., March 14, 2007 (Closed).

Place: National Institute for Occupational Safety and Health, 626 Cochrans Mill Road, Pittsburgh, PA 15236.

Status: The meeting will be closed to the public in accordance with provisions set forth in section 552b(c)(4) and (6), Title 5 U.S.C., and the Determination of the Director, Management Analysis and Services Office, CDC, pursuant to Public Law 92-463.

Matters to be Discussed: The meeting will include the review, discussion, and evaluation of research grant applications in response to PA 04-038, “Occupational Safety and Health Research Member Conflict Review.”

Contact Person for More Information: George Bockosh, Designated Federal Officer, National Institute for Occupational Safety and Health, 626 Cochrans Mill Road, Pittsburgh, PA 30333, telephone 412.386.6465.

The Director, Management Analysis and Services Office, has been delegated the authority to sign Federal Register notices pertaining to announcements of meetings and other committee management activities, for both CDC and the Agency for Toxic Substances and Disease Registry.

Dated: February 20, 2007.
Elaine L. Baker,
Acting Director, Management Analysis and Services Office, Centers for Disease Control and Prevention.

[FR Doc. E7-3184 Filed 2-23-07; 8:45 am]

BILLING CODE 4163-18-P